DEPARTMENT OF TRANSPORTATION

Federal Aviation Administration

14 CFR Part 73

[Docket No. FAA-2004-17178; Airspace Docket No. 03-AWA-7]

RIN 2120-AA66

Proposed Establishment of Prohibited Area 51, Bangor, WA

AGENCY: Federal Aviation Administration (FAA), DOT.

ACTION: Notice of proposed rulemaking, (NPRM).

SUMMARY: This action proposes to establish a prohibited area (P-51) over the U.S. Naval Submarine Base, at Bangor, WA. The proposed prohibited area would replace a Temporary Flight Restriction (TFR) that is currently in effect. The FAA is proposing this action to enhance the security of the Naval Submarine Base, at Bangor, WA.

DATES: Comments must be received on or before August 12, 2004.

ADDRESSES: Send comments on this proposal to the Docket Management System, U.S. Department of Transportation, Room Plaza 401, 400 Seventh Street, SW., Washington, DC 20590-0001. You must identify FAA Docket No. FAA-2004-17178 and Airspace Docket No. 03-AWA-7 at the beginning of your comments. You may also submit comments through the Internet to http://dms.dot.gov.

FOR FURTHER INFORMATION CONTACT: Ken McElroy, Airspace and Rules, Office of System Operations and Safety, ATO-R, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2004-17178 and Airspace Docket No. 03-AWA-7) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2004-17178 and Airspace Docket No. 03-AWA-7.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov, or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 1601 Lind Avenue, SW, Renton Washington 98055.

Persons interested in being placed on a mailing list for future NPRM's should contact the FAA's Office of Rulemaking, (202) 267-9677, to request a copy of Advisory Circular No. 11-2A, Notice of Proposed Rulemaking Distribution System, which describes the application procedure.

History

On September 11, 2001, the United States (U.S.) suffered catastrophic terrorist attacks involving four hijacked U.S. commercial aircraft. In response to these attacks, the FAA took action to temporarily shut down the National Airspace System with the exception of certain military, law enforcement, and emergency aircraft flight operations. Additionally, to hinder the potential for further airborne attacks and to specifically respond to security concerns, the FAA issued numerous TFRs to limit or prohibit aircraft flight operations in the vicinity of critical military, government, and national infrastructure locations across the country. Beginning on September 12, 2001, the FAA issued a series of TFRs to prohibit aircraft flight operations over a wide area in the vicinity of the U.S. Naval Submarine Base at Bangor, WA. The current NOTAM 4/0221 for this area was issued on January 9, 2004.

U.S. Navy Request

Due to the current world situation and continued security concerns at this facility, the U.S. Navy has requested that the FAA designate a prohibited area at Bangor, WA, to enhance Navy security efforts at the submarine base. This proposal responds to that request.

Statutory Authority

The FAA Administrator has broad authority to regulate the safe and efficient use of the navigable airspace (49 U.S.C. 40103(a)). The Administrator is also authorized to issue air traffic rules and regulations to govern the flight of aircraft, the navigation, protection, and identification of aircraft for the protection of persons and property on the ground, and for the efficient use of the navigable airspace. Additionally, pursuant to 49 U.S.C. section 40103(b)(3) the Administrator has the authority, in consultation with the Secretary of Defense, to “establish security provisions that will encourage and allow maximum use of the navigable airspace by civil aircraft consistent with national security.” Such provisions may include establishing airspace areas the Administrator decides are necessary in the interest of national defense; and by regulation or order, restrict or prohibit flight of civil aircraft that the Administrator cannot identify, locate, and control with available facilities in those areas.

The Proposal

In response to the U.S. Navy request, the FAA is proposing an amendment to Title 14 Code of Federal Regulations (14 CFR) part 73 (part 73) to designate a prohibited area over the U.S. Naval Submarine Base, at Bangor, WA. The proposed prohibited area, designated as P-51, would consist of that airspace from the surface up to but not including 2,500 feet mean seal level (MSL), to include base property on the east side of the Hood Canal, the water across the Hood Canal, and the base owned land portion of the Toandos Peninsula. No person may operate an aircraft within a prohibited area unless authorization has been granted by the using agency, and a waiver is issued by the FAA in accordance with 14 CFR 91.903. The proposed prohibited area dimension is reduced from that contained in the current TFR in effect for the Bangor Submarine base. If implemented, P-51 would modify and replace the current TFR at Bangor, WA detailed in NOTAM 2/0447.

The FAA has determined that this regulation only involves an established body of technical regulations for which frequent and routine amendments are necessary to keep them operationally current. Therefore this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has reviewed this action in accordance with the National Environmental Policy Act and FAA Order 1050.1D, Policies and Procedures for Considering Environmental Impacts. The FAA has determined that this action is neither permissive nor enabling and no extraordinary circumstance exists, therefore it does not require an environmental assessment or statement.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.93 [New]

2. § 73.93 is added as follows:

* * * * *

P-51 Bangor, WA [Added]

Boundaries: Beginning at lat. 47°46′31″ N., long. 122°46′12″ W.; to lat. 47°46′29″ N., long. 122°41′31″ W.; to lat. 47°41′42″ N., long. 122°41′27″ W.; to lat. 47°41′40″ N., long. 122°44′11″ W.; to lat. 47°43′19″ N., long. 122°46′09″ W.; to the point of beginning.

Designated Altitudes. Surface to 2,500 MSL.

Times of designation. Continuous.

Using agency. Administrator, FAA, Washington, DC.

* * * * *

Issued in Washington, DC on June 16, 2004.
Reginald C. Matthews,
Manager, Airspace and Rules.

[FR Doc. 04-14631 Filed 6-25-04; 8:45 am]

BILLING CODE 4910-13-P